DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and Title 30 of the Code of Federal Regulations Part 44 govern the application, processing, and disposition of petitions for modification. This notice is a summary of petitions for modification submitted to the Mine Safety and Health Administration (MSHA) by the parties listed below.

DATES: All comments on the petitions must be received by MSHA's Office of Standards, Regulations, and Variances on or before January 26, 2017.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2016-008-M.

Petitioner: Martin Marietta Materials, Inc., 11405 N. Pennsylvania St., Suite 250, Carmel, Indiana 46032.

Mine: Kokomo Mine, MSHA I.D. No. 12-02105, located in Howard County, Indiana.

Regulation Affected: 30 CFR 49.2(c) (Availability of mine rescue teams).

Modification Request: The petitioner requests a modification of the existing standard for the Martin Marietta, Indiana District Mine Rescue Team stationed at the Kokomo Mine, to use two additional firefighters from the Kokomo Fire Department located in Howard County, Indiana. The two firefighters are in addition to the proposed team of five experienced miners from the Kokomo mine, North Indianapolis mine, Noblesville Stone mine and Kentucky Avenue mine.

The petitioner states that:

(1) The firefighters are in close proximity to the mine, and will receive the required MSHA training.

(2) The members of the fire department have had extensive training in firefighting, evacuation and rescue.

(3) The additional firefighters will receive underground training and become familiar with the mines where they will be providing mine rescue service. The team will have more rescue training than existing 30 CFR 49.8 requires and will train underground with apparatus at each mine where they provide a service.

The petitioner asserts that the alternative method will at all times provide the same measure of protection as the existing standard.

Sheila McConnell,
Director, Office of Standards, Regulations, and Variances.

[FR Doc. 2016-31138 Filed 12-23-16; 8:45 am]

BILLING CODE 4520-43-P